NATIONAL ARCHIVES AND RECORDS ADMINISTRATION

36 CFR Part 1206

[FDMS Docket NARA-10-0001]

RIN 3095-AB67

National Historical Publications and Records Commission Grants

AGENCY: National Historical Publications and Records Commission, NARA.

ACTION: Final rule.

SUMMARY: The National Historical Publications and Records Commission (NHPRC), National Archives and Records Administration (NARA), is amending its regulations by removing individual eligibility for NHPRC grants, changing the time for posting of grant opportunity announcements from four to three months before the application deadline, and reflecting the new Office of Management and Budget (OMB) requirement to use Standard Form (SF) 425, Federal Financial Report. These actions are necessary updates to our business processes and are intended to allow us greater flexibility to respond to changing needs and a simplified financial reporting form and process. This final rule also adjusts the order and format of the definitions section for consistency with other NARA regulations, and makes minor typographical changes for clarity and consistency.

DATES: This rule is effective November 29, 2010.

FOR FURTHER INFORMATION CONTACT: Lucy Barber, Deputy Executive Director, National Historical Publications and Records Commission, National Archives and Records Administration, 700 Pennsylvania Avenue, NW., Room 106, Washington, DC 20408-0001, 202-357-5306.

SUPPLEMENTARY INFORMATION: On April 7, 2010, NARA published a proposed rule (75 FR 17638) for revisions to the regulations on the National Historical Publications and Records Commission. Some of the revisions were required by regulatory changes from the Office of Management and Budget; others proposed changes to eligible applicants and the required posting period for grant announcements before grant deadlines. We received five formal comments from individuals on the proposed changes. We are also responding to one comment made on a public blog Web site regarding individual applicants although we normally would not respond to comments that are made outside the formal comment process. We simply cannot monitor all possible ways people could make comments, including public blogs, so cannot be responsible for knowing about, or addressing, comments that are made outside the designated methods. In this case, however, the comment was brought to our attention and because it concerned a comment already raised through the formal process, we included it in our responses.

Of the comments we received, one commentator supported all the changes. Two individuals were concerned about changing the period for public notification of grant opportunities from four to three months prior to application deadlines. They commented that applicants wanted as much time as possible to prepare applications.

NARA will continue to post NHPRC grant opportunities in as timely a manner as possible to ensure that applicants have sufficient time to prepare their application packages. NARA notes that before any public posting can take place, the Commission must review and approve all grant opportunity announcements at its scheduled meetings. This ensures that the Commission members review overall funding priorities and offer grant programs that reflect those priorities. Given this requirement, the Commission has found that a four-month posting requirement has reduced its ability to initiate new grant programming in a timely and effective manner and is seeking a three-month public posting period in order to provide flexible and responsive grant programs. We have checked the grant posting periods for comparable federal agencies and programs, and we have found two to three months to be a typical time frame between grant postings and grant application deadlines. NARA will retain our proposed change to three months for its NHPRC grant opportunity postings.

The other two respondents commented on the proposal to no longer allow individuals to apply for NHPRC grants. In addition, on a public blog, a member of the public raised objections on this issue. Currently, the only program for which individual applicants are eligible is the Publishing Historical Records grant program. One respondent and the blog commenter felt that the overall decline in institutional support for research increased the need for the NHPRC to support independent scholars, despite any practical challenges associated with such grants. The other commenter supported the proposed change, noting that the administration of grants has become far more complex in recent years. In addition, he noted that projects funded in Publishing Historical Records often take decades to complete and require technological infrastructure rarely available to an independent scholar.

NARA considered the comments carefully. The Publishing Historical Records grant program is highly competitive and requires that all applicants have the ability to meet the Commission's substantial requirements for project cost-sharing and sustainability. NARA believes that some form of institutional support for publishing projects ensures that individual scholars have a better chance of meeting the grant requirements, particularly for projects of the scope involved in Publishing Historical Records. In the last five years, the Commission has found no proposals from independent scholars that have met the requirements for funding. However, the Commission has seen independent scholars partner with academic institutions to meet these requirements. We anticipate that this practice will continue in the future. We also hope that this change will make grant options less confusing for individuals who are seeking federal awards for activities entirely unrelated to the mission of the NHPRC who regularly contact us for individual support. NHPRC staff members currently spend considerable time redirecting these individuals to more appropriate venues. For both of these reasons, NARA therefore will implement the proposed change.

We have made two additional changes to the final rule; the revisions were made in response to two regulatory changes that occurred since publication of the proposed rule. The revisions are the inclusion of additional OMB regulatory requirements that apply to NHPRC grants and are found in § 1206.72(a)(1), 2 CFR Part 25 Universal Identifier and Central Contractor Registration, and § 1206.72(a)(2) 2 CFR Part 170 Reporting Subaward and Executive Compensation Information. Because these revisions became mandatory after the comment period for the proposed rule and are required after October 1, 2010, we have included them in the final rule.

This final rule is not a significant regulatory action for the purposes of Executive Order 12866. As required by the Regulatory Flexibility Act, it is hereby certified that this rule will not have a significant impact on small entities. This rule is not a major rule as defined in 5 U.S.C. Chapter 8, Congressional Review of Agency Rulemaking.

List of Subjects in 36 CFR Part 1206

Archives and records, Grant program—education, Reporting and recordkeeping requirements.

For the reasons stated in the preamble, NARA amends Title 36 of the Code of Federal Regulations, Part 1206, as follows:

PART 1206—NATIONAL HISTORICAL PUBLICATIONS AND RECORDS COMMISSION

1. The authority citation for part 1206 continues to read as follows:

Authority: 44 U.S.C. 2104(a); 44 U.S.C. 2501-2506.

Subpart A—[Amended]

§ 1206.1 [Removed]

2. Section 1206.1 is removed.

§ 1206.2 [Redesignated as § 1206.1]

3. Redesignate § 1206.2 as § 1206.1

4. Revise § 1206.3 to read as follows:

§ 1206.3 What definitions apply to the regulations in Part 1206?

As used in Part 1206:

Board refers to a State historical records advisory board.

Commission (see NHPRC).

Coordinator means the coordinator of a State historical records advisory board.

Cost sharing means the financial contribution the applicant pledges toward the total cost of a project. Cost sharing can include both direct and indirect expenses, contributions provided by the applicant or by third parties as in-kind or cash contributions, and any income earned directly by the project.

Direct costs means expenses that are attributable directly to the cost of a project, such as salaries, project supplies, travel expenses, equipment rented or purchased for the project, or services procured for the project.

Grant opportunity announcement refers to a document published on the NHPRC Web site and at http://www.grants.gov that describes a type of grant offered, eligibility requirements, and application instructions.

Guidance refers to a non-binding document published on the NHPRC Web site to clarify or explain Commission policy or to provide procedural details.

Historical records means documentary material having permanent or enduring value, including manuscripts, personal papers, official records, maps, audiovisual materials, and electronic files.

Historical records repository means organizations whose mission is to acquire, preserve, and promote the use of historical records. They include archives, special collections, museums, and historical societies.

Indirect costs means costs incurred for common or joint objectives of an applicant's organization and therefore not attributable to a specific project or activity. Typically, indirect costs include items such as overhead for facilities maintenance and accounting services.

NHPRC means members of the National Historical Publications and Records Commission acting as a body.

NHPRC staff refers to the Executive Director and the staff of the Commission or the Executive Director of the Commission.

State, in §§ 1206.40 through 1206.42, means all 50 States of the Union, plus the District of Columbia, Puerto Rico, the U.S. Virgin Islands, Guam, American Samoa, and the Commonwealth of the Northern Mariana Islands.

The Manual of Suggested Practices refers to “The Manual of Suggested Practices for State Historical Records Advisory Boards.” It is a type of guidance.

5. Revise § 1206.4 to read as follows:

§ 1206.4 What is the purpose of the Commission?

The National Historical Publications and Records Commission (NHPRC or Commission), a statutory body affiliated with the National Archives and Records Administration (NARA), supports a wide range of activities to preserve, publish, and encourage the use of primary documentary sources. Through the NHPRC's grant programs, training programs, and special projects, the Commission offers advice and assistance to State and local government agencies, non-Federal nonprofit organizations and institutions, and Federally-acknowledged or state-recognized Native American tribes or groups committed to the preservation, publication, or use of United States documentary resources.

6. Amend § 1206.8 by revising paragraphs (b), (d), and (e) to read as follows:

§ 1206.8 How do you operate the grant program?

* * * * *

(b) The Commission establishes grant program priorities as reflected in its grant opportunity announcements and, from time-to-time, issues non-binding, clarifying guidance documents through the NHPRC Web site.

* * * * *

(d) The purpose and work plan of all NHPRC-funded grant projects must be in accord with current Commission program guidance as reflected in the grant opportunity announcements.

(e) The Commission makes funding recommendations to the Archivist of the United States, who has the authority to award grants.

7. Amend § 1206.10 by revising paragraphs (b) and (c) to read as follows:

§ 1206.10 How do you make grant opportunities known?

* * * * *

(b) The NHPRC staff prepares grant opportunity announcements consisting of all information necessary to apply for each grant and publishes the announcements on the NHPRC Web site (http://www.archives.gov/nhprc) at least three months before the final application due date.

(c) The NHPRC staff publishes notice of each announcement on http://www.grants.gov, a Federal government Web site widely available to the public, at least three months before the final application due date.

8. Amend § 1206.12 by revising paragraph (a) to read as follows:

§ 1206.12 What are my responsibilities once I have received a grant?

(a) Comply with all Federal regulations about grants administration that are contained in § 1206.72.

* * * * *

Subpart B—[Amended]

9. Amend § 1206.24 by revising paragraph (a) introductory text to read as follows:

§ 1206.24 What type of proposal is ineligible for a publications grant?

(a) The Commission does not support:

* * * * *

Subpart C—[Amended]

10. Amend § 1206.32 by revising paragraphs (a) and (b) introductory text to read as follows:

§ 1206.32 What type of proposal is eligible for a records grant?

(a) The Commission provides grants to historical records repositories for locating, preserving and encouraging use of records held by State, local, and other governmental units and private archives and collections of papers maintained in non-Federal, nonprofit repositories and special collections relating to the study of American history.

(b) The Commission provides support to historical records repositories and other institutions for:

* * * * *

11. Amend § 1206.34 by revising the introductory text to read as follows:

§ 1206.34 What type of proposal is ineligible for a records grant?

In addition to other programmatic limitations established by the Commission as found in the grant opportunity announcements, NHPRC does not support proposals:

* * * * *

Subpart D—[Amended]

12. Amend § 1206.40 by revising paragraph (a) to read as follows:

§ 1206.40 What is a State records program?

(a) Each State is eligible to receive NHPRC grants to support the work of the State historical records advisory board (board); to operate statewide historical records services; and to make sub-grants to eligible organizations within the State in support of historical records activities.

* * * * *

13. Amend § 1206.41 by revising paragraphs (a) and the first and last sentence of paragraph (b) as follows:

§ 1206.41 What is a State historical records advisory board and how is it constituted?

(a) Responsibilities. The board is the central advisory body for historical records coordination within the State and for NHPRC State and local records projects within the State. The board engages in planning; it develops, revises, and submits to the Commission a State plan including priorities for State historical records projects following “The Manual of Suggested Practices.” The board reviews all State and local records projects within the State and makes recommendations for State projects to the Commission.

(b) * * * Each State participating in the NHPRC State program must adopt an appointment process and appoint a board following “The Manual of Suggested Practices.” * * * The board should be as broadly representative as possible of the public and private archives, records offices, and research institutions and organizations in the State.

14. Amend § 1206.42 by revising paragraphs (a), the first two sentences of paragraph (b), and paragraph (c) to read as follows:

§ 1206.42 What is a State coordinator?

(a) Duties. The State coordinator (coordinator) is the officer responsible for the NHPRC State program. He or she reports the State board appointment process, membership and recommendations to the NHPRC at least on an annual basis and may serve as chair of the board and may perform other duties following applicable State statute or regulation and “The Manual of Suggested Practices.”

(b) * * * The coordinator should be the full-time professional official in charge of the State archival program or agency, unless otherwise specified in State statute or regulation. The coordinator serves ex officio, unless otherwise specified in State statute or regulation. * * *

(c) Replacement. In the absence of a deputy coordinator, the State board may select an acting coordinator until another coordinator is appointed, in order to conduct the necessary business of the board.

§ 1206.43 [Amended]

15. Amend § 1206.43 by capitalizing the “S” in the word “State” in the heading and in the text.

16. Revise § 1206.44 to read as follows:

§ 1206.44 Who is eligible for sub-grants?

All organizations located within a State that has an active State historical records board and entities defined in § 1206.54 may be eligible, as determined by the board.

17. Amend § 1206.45 by revising the heading and paragraphs (a)(1), (b), and (c) to read follows:

§ 1206.45 What rules govern sub-grant distribution, cost sharing, grant administration, and reporting?

(a) * * *

(1) The distribution of re-grant funds;

* * * * *

(b) Each participating State is responsible for ensuring that the sub-grantees comply with Federal grant administration and reporting requirements.

(c) Each participating State must annually prepare a report to the NHPRC on its sub-grant program, following the requirements outlined in § 1206.80.

Subpart E—[Amended]

18. Amend § 1206.50 by revising the first two sentences of paragraph (a)(1) to read as follows:

§ 1206.50 What types of funding and cost sharing arrangements does the Commission make?

(a) * * *

(1) * * * A matching grant is a Federal grant awarded only after the applicant raises its share of non-Federal support for a project. We will match only funds raised from non-Federal sources, either monies provided by the applicant's own institution specifically for the project or from a non-Federal third-party source. * * *

* * * * *

§ 1206.52 [Amended]

19. Amend § 1206.52 by removing the words “We describe” from the second sentence and adding in their place the words “The Commission describes”.

20. Revise § 1206.54 to read as follows:

§ 1206.54 Who may apply for NHPRC grants?

The Commission will consider applications from State government agencies in States where there is an active board; local government agencies; United States nonprofit organizations and institutions, including institutions of higher education; or Federally-acknowledged and State-recognized American Indian tribes or groups.

21. Revise § 1206.56 to read as follows:

§ 1206.56 When are applications due?

The Commission generally meets twice a year, and considers grant proposals submitted by the deadlines set by the Commission. The deadlines are published in each grant opportunity announcement and at http://www.grants.gov. All proposals must be submitted by the published deadline.

22. Amend § 1206.58 by revising paragraphs (a), (b) introductory text, (b)(1)(i), (b)(1)(ii), and (b)(2), and by removing paragraphs (b)(1)(iii) and (b)(3).

The revisions read as follows:

§ 1206.58 Whom may I contact about applying for a grant?

(a) Contact the NHPRC staff. The Commission encourages you to discuss your proposal through correspondence, by phone, or in person with NHPRC staff.

(b) Contact your State Historical Records Advisory Board as appropriate. NHPRC encourages you to discuss your proposal with your State historical records coordinator at all stages of your proposal's development and before you submit the proposal.

(1) * * *

(i) Your proposal is for publications or subvention projects; or

(ii) You are an American Indian tribe.

(2) You will find the staff contacts and a list of State historical records coordinators on the Commission's Web site at http://www.archives.gov/nhprc.

§ 1206.60 [Amended]

23. Amend § 1206.60 in the first sentence by removing the word “Web” and adding in its place the word “web”.

24. Revise § 1206.64(a) to read as follows:

§ 1206.64 What formal notification will I receive, and will it contain other information?

(a) Successful grant applicants will receive a formal grant award document. The document and attachments specify terms of the grant. NHPRC staff notifies project directors informally of awards and any conditions soon after the Archivist approves the grants.

* * * * *

Subpart F—[Amended]

§ 1206.70 [Amended]

25. Amend § 1206.70 by removing the second sentence.

26. Amend § 1206.72 by revising paragraph (a) to read as follows:

§ 1206.72 What are, and where can I find, the regulatory requirements that apply to NHPRC grants?

(a) In addition to this Part 1206, NARA has issued other regulations that apply to NHPRC grants in 36 CFR Parts 1200 to 1212 and 2 CFR Part 2600. NARA also applies the principles and standards in the following regulations and Office of Management and Budget (OMB) Circular for NHPRC grants:

(1) 2 CFR Part 25 Universal Identifier and Central Contractor Registration;

(2) 2 CFR Part 170 Reporting Subaward and Executive Compensation Information;

(3) 2 CFR Part 220 Cost Principles for Educational Institutions (OMB Circular A-21);

(4) 2 CFR Part 225 Cost Principles for State, Local, and Indian Tribal Governments (OMB Circular A-87);

(5) 2 CFR Part 230 Cost Principles for Non-Profit Organizations (OMB Circular A-122); and

(6) OMB Circular A-133, “Audits of States, Local Governments, and Nonprofit Organizations.” This circular is available at http://www.whitehouse.gov/omb/circulars_default.

* * * * *

§ 1206.74 [Amended]

27. Amend § 1206.74 in the first sentence by removing the word “Commission” and adding “NHPRC” in its place.

28. Revise § 1206.76 to read as follows:

§ 1206.76 May I receive an extension to my grant project?

Yes, requests for extensions of the grant period should be signed by the grantee's authorized representative and submitted not more than two months before the scheduled end of the grant period. The NHPRC will not allow extensions unless a project is up-to-date in its submission of financial and narrative reports.

§ 1206.80 [Amended]

29. Amend § 1206.80(a) in the first sentence by removing the word “status”.

30. Revise § 1206.82 to read as follows:

§ 1206.82 What is the format and content of the financial report?

Grant recipients must submit financial reports on Standard Form 425 and have them signed by the grantee's authorized representative or by an appropriate institutional fiscal officer.

31. Amend § 1206.84 by revising the second sentence of paragraph (a) and removing paragraph (c).

The revision reads as follows:

§ 1206.84 What is the format and content of the narrative report?

(a) * * * The report should include a summary of project activities; whether the project proceeded on schedule; any revisions of the work plan, staffing pattern, or budget; any web address created by the project; and any other press releases, articles, or presentations relating to the grant project or its products. * * *

* * * * *

32. Revise § 1206.86 to read as follows:

§ 1206.86 What additional materials must I submit with the final narrative report?

You must submit the materials required in the NHPRC grant announcements and in the grant award document.

§ 1206.88 [Amended]

33. Amend § 1206.88 by removing the phrase “the National Archives and Records Administration (NARA)” and adding “NARA” in its place.

Dated: October 18, 2010.
David S. Ferriero,
Archivist of the United States.

[FR Doc. 2010-27282 Filed 10-27-10; 8:45 am]

BILLING CODE 7515-01-P